DEPARTMENT OF COMMERCE

International Trade Administration

[A-834-807]

Silicomanganese From Kazakhstan: Rescission of Antidumping Duty Administrative Review; 2014-2015

AGENCY: Enforcement and Compliance, International Trade Administration, Department of Commerce.

SUMMARY: The Department of Commerce (the Department) is rescinding its administrative review of the antidumping duty order on silicomanganese from Kazakhstan for the period of review (POR) May 1, 2014, through April 30, 2015.

DATES: Effective Date: September 10, 2015.

FOR FURTHER INFORMATION CONTACT: Hermes Pinilla, AD/CVD Operations Office I, Enforcement and Compliance, International Trade Administration, U.S. Department of Commerce, 14th Street and Constitution Avenue NW., Washington, DC 20230; telephone: 202-482-3477.

SUPPLEMENTARY INFORMATION:

Background

On June 1, 2015, based on a timely request for review by Eramet Marietta, Inc. (Eramet) and Felman Production, LLC (Felman), domestic interested parties and producers of silicomanganese from Kazakhstan,¹ the Department initiated an administrative review of the antidumping duty order on silicomanganese from Kazakhstan ² with respect to Aksu Ferroalloy Plant, Alloy 2000, S.A., Considar, Inc., and Transnational Co. Kazchrome.³

¹ See letter from Eramet and Felman to the Department, “Silicomanganese from Kazakhstan: Request for Administrative Review of Antidumping Order” (June 1, 2015).

² See Initiation of Antidumping and Countervailing Duty Administrative Reviews, 80 FR 37588 (July 1, 2015) (Initiation Notice).

³ This company was inadvertently spelled as Kazuchrome in the Initiation Notice. The Department corrected the spelling in the initiation notice for orders with June anniversary dates. See Initiation of Antidumping and Countervailing Duty Administrative Reviews, 80 FR at 45950 (August 3, 2015).

On August 25, 2015, Eramet and Felman withdrew their request for an administrative review.⁴

⁴ See letter from Eramet and Felman to the Department, “Silicomanganese from Kazakhstan: Withdrawal of Request for Administrative Review of Antidumping Order” (August 25, 2015).

Rescission of Review

Pursuant to 19 CFR 351.213(d)(1), the Department will rescind an administrative review, if a party that requested a review withdraws the request within 90 days of the date of publication of notice of initiation of the requested review. Eramet and Felman withdrew their request for review within the 90-day time limit. Because no other party requested a review, the Department is rescinding this administrative review of the antidumping duty order on silicomanganese from Kazakhstan.

Assessment

The Department will instruct U.S. Customs and Border Protection (CBP) to assess antidumping duties on all appropriate entries of silicomanganese from Kazakhstan during the POR at rates equal to the cash deposit rate of estimated antidumping duties required at the time of entry, or withdrawal from warehouse, for consumption, in accordance with 19 CFR 351.212(c)(1)(i). The Department intends to issue appropriate assessment instructions to CBP 15 days after the publication of this notice in the Federal Register.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Tariff Act of 1930, as amended, and 19 CFR 351.213(d)(4).

Dated: September 3, 2015.
Gary Taverman,
Associate Deputy Assistant Secretary for Antidumping and Countervailing Duty Operations.

[FR Doc. 2015-22851 Filed 9-9-15; 8:45 am]

BILLING CODE 3510-DS-P